DEPARTMENT OF ENERGY

10 CFR Part 430

[Docket No. EERE-2009-BT-TP-0004]

RIN 1904-AB94

Energy Conservation Program for Consumer Products: Test Procedures for Residential Central Air Conditioners and Heat Pumps

AGENCY: Office of Energy Efficiency and Renewable Energy, Department of Energy.

ACTION: Supplemental notice of proposed rulemaking; reopening the public comment period.

SUMMARY: This document announces a reopening of the time period for submitting comments on the supplemental notice of proposed rulemaking (SNOPR) to further amend DOE's proposed amendments to its test procedures for residential central air conditioners and heat pumps released in a June 2010 notice of proposed rulemaking (NOPR). The comment period closed on May 2, 2011. The comment period is reopened from May 26, 2011 until June 9, 2011.

DATES: Comments, data, and information relevant to the SNOPR to amend DOE test procedures for residential central air conditioners and heat pumps will be accepted until June 9, 2011.

ADDRESSES: Interested parties may submit comments, identified by docket number EERE-2009-BT-TP-0004 or Regulation Identifier Number (RIN) 1904-AB94, by any of the following methods:

1. Federal eRulemaking Portal: http://www.regulations.gov. Follow the instructions for submitting comments.

2. E-mail: RCAC-HP-2009-TP-0004@ee.doe.gov. Include the docket number EERE-2009-BT-TP-0004 and/or RIN 1904-AB94 in the subject line of the message.

3. Postal Mail: Ms. Brenda Edwards, U.S. Department of Energy, Building Technologies Program, Mailstop EE-2J, 1000 Independence Avenue, SW., Washington, DC 20585-0121. If possible, please submit all items on a compact disc (CD), in which case it is not necessary to include printed copies. Otherwise, please submit one signed paper original.

4. Hand Delivery/Courier: Ms. Brenda Edwards, U.S. Department of Energy, Building Technologies Program, 950 L'Enfant Plaza, SW., Suite 600, Washington, DC 20024. Telephone: (202) 586-2945. If possible, please submit all items on a CD, in which case it is not necessary to include printed copies. Otherwise, please submit one signed paper original.

Instructions: No telefacsimilies (faxes) will be accepted. All submissions must include the docket number or RIN for this rulemaking. For detailed instructions on submitting comments and additional information on the rulemaking process, see section 0, “Public Participation,” of this document.

Docket: The docket is available for review at http://www.regulations.gov, including Federal Register notices, framework documents, public meetings attendee lists, transcripts, comments, and other supporting documents/materials. All documents in the docket are listed in the http://www.regulations.gov index. However, not all documents listed in the index may be publicly available, such as information that is exempt from public disclosure.

A link to the docket Web page can be found at:

http://www1.eere.energy.gov/buildings/appliance_standards/residential/cac_heatpumps_new_rulemaking.html. This Web page will contain a link to the docket for this notice on the Web site http://www.regulations.gov. The http://www.regulations.gov Web page will contain simple instructions on how to access all documents, including public comments, in the docket. See section 0, “Public Participation,” for information on how to submit comments through regulations.gov.

For further information on how to submit or review public comments or view hard copies of the docket in the Resource Room, contact Ms. Brenda Edwards at (202) 586-2945 or e-mail: Brenda.Edwards@ee.doe.gov.

FOR FURTHER INFORMATION CONTACT: Mr. Wes Anderson, U.S. Department of Energy, Office of Energy Efficiency and Renewable Energy, Building Technologies Program, EE-2J, 1000 Independence Avenue, SW., Washington, DC 20585-0121. Telephone: (202) 586-7335. E-mail: Wes.Anderson@ee.doe.gov.

Ms. Jennifer Tiedeman, U.S. Department of Energy, Office of the General Counsel, GC-71, 1000 Independence Avenue, SW., Washington, DC 20585. Telephone: (202) 287-6111. E-mail: Jennifer.Tiedeman@hq.doe.gov.

SUPPLEMENTARY INFORMATION:

I. Introduction

In an April 1, 2011 supplemental notice of proposed rulemaking (SNOPR), 76 FR 18105, the U.S. Department of Energy (DOE) proposed amendments to those it proposed to the DOE test procedures for residential central air conditioners and heat pumps released in a June 2010 notice of proposed rulemaking (NOPR). 75 FR 31224. The proposed amendments in the SNOPR would change the off-mode laboratory test steps and calculation algorithm to determine off-mode power consumption for residential central air conditioners and heat pumps, as well as change the requirements for selection and metering of the low-voltage transformer used when testing coil-only residential central air conditioners and heat pumps. Additionally, the amendments proposed in the SNOPR provided a method of calculation to determine the energy efficiency ratio (EER) during cooling mode steady-state tests for use as a regional metric. Finally, the SNOPR proposed amendments that would combine the two seasonal off-mode ratings of P1 and P2 for residential central air conditioners and heat pumps, as set forth in the June 2010 NOPR, to yield a single overall rating, PWOFF. DOE opened a public comment period to receive comments, feedback, and other information regarding the SNOPR. The public comment period closed on May 2, 2011.

In a May 11, 2011, letter to DOE, after the close of the comment period, the Air-Conditioning, Heating, and Refrigeration Institute (AHRI) raised concerns regarding the proposals set forth in the SNOPR. The specific concerns raised by AHRI include that: (1) THE proposed off-mode test requirements are too complex; (2) the proposed method for estimating off-mode hours is inaccurate; (3) the assumed outdoor temperature values for the shoulder season may be incorrect; (4) the proposed test procedures fails to measure power input to the crankcase heater; and (5) DOE has severely underestimated the cost of testing that would be incurred by manufacturers. (AHRI, No. 24.1 at pp. 1-2) ¹

¹ This indicates a written comment that was submitted in response to the April 2011 SNOPR and is included in the docket for this rulemaking. This particular comment refers to a comment (1) by AHRI, (2) in document number 24.1 in the public meeting support materials, and (3) appearing on pages 1-2.

Based on the number and scope of issues raised in the May 11, 2011, AHRI letter, DOE believes that reopening the comment period to allow additional time for interested parties to submit comments is appropriate. Therefore, DOE is reopening the comment period until June 9, 2011 to provide interested parties additional time to prepare and submit comments. DOE will accept comments received no later than June 9, 2011 and will consider any comments received between May 2, 2011 and June 9, 2011 to be timely filed.

II. Public Participation

A. Submission of Comments

DOE will accept comments, data, and other information regarding the SNOPR no later than the date provided in the DATES section at the beginning of this notice. Interested parties may submit comments using any of the methods described in the ADDRESSES section at the beginning of this notice.

Submitting comments via regulations.gov. The regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to regulations.gov information for which disclosure is restricted by statute, such as trade secrets and commercial or financial information (hereinafter referred to as Confidential Business Information (CBI)). Comments submitted through regulations.gov cannot be claimed as CBI. Comments received through the Web site will waive any CBI claims for the information submitted. For information on submitting CBI, see the Confidential Business Information section.

DOE processes submissions made through regulations.gov before posting them online. Normally, comments will be posted within a few days of being submitted. However, if large volumes of comments are processed simultaneously, your comment may not be viewable for up to several weeks. Please keep the comment tracking number that regulations.gov provides after you have successfully uploaded your comment.

Submitting comments via e-mail, hand delivery, or mail. Comments and documents submitted via e-mail, hand delivery, or mail also will be posted to regulations.gov. If you do not want your personal contact information to be publicly viewable, do not include it in your comment or any accompanying documents. Instead, provide your contact information on a cover letter. Include your first and last names, e-mail address, telephone number, and optional mailing address. The cover letter will not be publicly viewable as long as it does not include any comments.

Include contact information each time you submit comments, data, documents, and other information to DOE. E-mail submissions are preferred. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, are written in English, and are free of any defects or viruses. Documents should not contain special characters or any form of encryption and, if possible, they should carry the electronic signature of the author.

Campaign form letters. Please submit campaign form letters by the originating organization in batches of between 50 and 500 form letters per PDF, or as one form letter with a list of supporters' names compiled into one or more PDFs. This reduces comment processing and posting time.

Confidential Business Information. Pursuant to 10 CFR 1004.11, any person submitting information that he or she believes to be confidential and exempt by law from public disclosure should submit via e-mail, postal mail, or hand delivery two well-marked copies: one copy of the document marked confidential including all the information believed to be confidential, and one copy of the document marked non-confidential with the information believed to be confidential deleted. Submit these documents via e-mail or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC on May 20, 2011.
Kathleen Hogan,
Deputy Assistant Secretary, Office of Technology Development, Energy Efficiency and Renewable Energy.

[FR Doc. 2011-13093 Filed 5-25-11; 8:45 am]

BILLING CODE 6450-01-P